DEPARTMENT OF ENERGY

Federal Energy Regulatory Commission

[Project No. 2710-035]

PPL Maine, LLC; Notice of Application Accepted for Filing and Soliciting Motions To Intervene and Protests

February 25, 2005.

Take notice that the following hydroelectric application has been filed with the Commission and is available for public inspection.

a. Type of Application: Subsequent license.

b. Project No.: P-2710-035.

c. Date filed: June 25, 2004.

d. Applicant: PPL Maine, LLC.

e. Name of Project: Orono Hydroelectric Project.

f. Location: On the Stillwater Branch of the Penobscot River, near the town of Buxton, Penobscot County, Maine. This project does not occupy federal lands.

g. Filed Pursuant to: Federal Power Act 16 U.S.C. 791 (a)-825(r).

h. Applicant Contact: Mr. Scott Hall, PPL Maine, LLC, Davenport Street, PO Box 276, Milford, Maine 04461, (207) 827-5364.

i. FERC Contact: Patrick Murphy, (202) 502-8755, patrick.murphy@ferc.gov.

j. Deadline for filing motions to intervene and protests: April 25, 2005.

All documents (original and eight copies) should be filed with: Magalie R. Salas, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Motions to intervene and protests may be filed electronically via the Internet in lieu of paper. The Commission strongly encourages electronic filings. See 18 CFR 385.2001(a)(1)(iii) and the instructions on the Commission's Web site (http://www.ferc.gov) under the “eFiling” link

k. This application has been accepted, and is ready for environmental analysis at this time.

l. The Orono Hydroelectric Project, as proposed, would consist of the following facilities: (1) The existing 1,174-foot-long by 15-foot-high dam with 2.4-foot-high flashboards; (2) a 2.3-mile-long reservoir, which has a surface area of 175 acres at the normal full pond elevation of 72.4 feet above mean sea level; (3) three new 10-foot-diameter penstocks; (4) a new restored powerhouse containing four generating units with total installed generating capacity of 2.3 megawatts (MW); and (4) appurtenant facilities. The restored project would have an average annual generation of 17,821 megawatt-hours. The dam and existing project facilities are owned by the applicant.

m. A copy of the application is on file with the Commission and is available for public inspection. This filing may also be viewed on the Web at http://www.ferc.gov using the “eLibrary” link—select “Docket #” and follow the instructions. For assistance, please contact FERC Online Support at FERCOnlineSupport@ferc.gov or toll free at (866) 208-3676 or for TTY, contact (202) 502-8659. A copy is also available for inspection and reproduction at the address in item h above.

n. Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular application.

All filings must (1) bear in all capital letters the title “PROTEST” or “MOTION TO INTERVENE;” (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application.

Magalie R. Salas,
Secretary.

[FR Doc. E5-888 Filed 3-2-05; 8:45 am]

BILLING CODE 6717-01-P